DEPARTMENT OF TRANSPORTATION

Federal Transit Administration

Limitation on Claims Against Proposed Public Transportation Projects

AGENCY: Federal Transit Administration (FTA), DOT.

ACTION: Notice.

SUMMARY: This notice announces final environmental action taken by the Federal Transit Administration (FTA) for a project in New York City, New York. The purpose of this notice is to announce publicly the environmental decision by FTA on the subject project and to activate the limitation on any claims that may challenge this final environmental action.

DATES: By this notice, FTA is advising the public of final agency actions subject to 23 U.S.C. 139(l). A claim seeking judicial review of FTA actions announced herein for the listed public transportation project will be barred unless the claim is filed on or before May 3, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency action by issuing certain approvals for the public transportation project listed below. The action on the project, as well as the laws under which such action was taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and action that is the subject of this notice follow:

Project name and location: The Metropolitan Transportation Authority (MTA) Second Avenue Subway Phase 2 Project, New York City, NY. Project sponsor: Metropolitan Transportation Authority. Project description: The Second Avenue Subway (SAS) Phase 2 Project includes the construction of the second phase of a new subway between 96th Street and 125th Street, in Manhattan, New York. SAS Phase 2 would connect to the recently completed Phase 1, which extended the existing Q subway service from 63rd Street to 96th Street. SAS Phase 2 will extend the Q subway service north to 125th Street. The MTA evaluated a modified design of Phase 2 in a supplemental environmental assessment (SEA) which evaluated environmental impact areas considered in the 2004 Final Environmental Impact Statement (FEIS) to determine whether the modified design would result in any new significant environmental impacts not disclosed in the FEIS or require mitigation measures not identified in the FEIS. Based on review of the SEA and consideration of public and agency comments, FTA issued a finding of no significant impact (FONSI) that the modified design will not result in new significant impacts on the environment and no new mitigation measures will be required; and therefore, the conclusions of the FEIS and ROD remain valid. This notice only applies to the discrete actions taken by FTA at this time, as described below. Nothing in this notice affects FTA's previous decisions, or notice thereof, for this project. Final agency actions: Finding of No Significant Impact for the Second Avenue Subway Phase 2 New York City, New York, dated November 15, 2018. Supporting documentation: Supplemental Environmental Assessment to the Second Avenue Subway Final Environmental Impact Statement: Phase 2, dated July 12, 2018.

Elizabeth S. Riklin,
Deputy Associate Administrator for Planning and Environment.

[FR Doc. 2018-26254 Filed 12-3-18; 8:45 am]

BILLING CODE P